DEPARTMENT OF HEALTH AND HUMAN SERVICES

National Institutes of Health

National Institute of Nursing Research; Amended Notice of Meeting

Notice is hereby given of a change in the meeting of the National Institute of Nursing Research Initial Review Group, October 16, 2008, 8 a.m. to October 17, 2008, 5 p.m. Bethesda Marriott, 5151 Pooks Hill Road, Bethesda, MD, 20814 which was published in the Federal Register on September 9, 2008, FR Doc. E8-20642.

Date change to October 16, 2008 only and time change to 8 a.m.-6 p.m. The meeting is closed to the public.

Dated: October 1, 2008.
Jennifer Spaeth,
Director, Office of Federal Advisory Committee Policy.

[FR Doc. E8-23782 Filed 10-8-08; 8:45 am]

BILLING CODE 4140-01-M